OFFICE OF THE UNITED STATES TRADE REPRESENTATIVE

[Docket Number USTR-2025-0015]

Postponement of Public Hearing Concerning China's Compliance With WTO Commitments

AGENCY: Office of the United States Trade Representative (USTR).

ACTION: Notice: postponement of public hearing.

SUMMARY: The Office of the United States Trade Representative (USTR) sought public comments to assist in the preparation of its annual report to Congress on China's compliance with its obligations as a Member of the World Trade Organization (WTO). USTR is postponing the public hearing that was scheduled to take place on October 7, 2025.

DATES: The public hearing scheduled for October 7, 2025 is postponed.

FOR FURTHER INFORMATION CONTACT: Alex Martin, Deputy Director for China Affairs, at Thomas.A.Martin@ustr.eop.gov or (202) 395-9625.

SUPPLEMENTARY INFORMATION: On August 18, 2025, USTR sought public comments to assist in the preparation of its annual report to Congress on China's compliance with its obligations as a Member of the WTO. See 90 FR 40136 (Aug 18, 2025). The notice included a September 24, 2025, deadline for the submission of written comments and requests to testify at a public hearing that was scheduled to take place on October 7, 2024. In response to the request for comments, USTR received 12 submissions. In light of the lapse in appropriations and to ensure full public and interagency participation in the public hearing at a later date, USTR is postponing the hearing.

Edward Marcus,
Chair of the Trade Policy Staff Committee, Office of the United States Trade Representative.

[FR Doc. 2025-19488 Filed 10-6-25; 8:45 am]

BILLING CODE 3390-F4-P